DEPARTMENT OF HOMELAND SECURITY

Federal Emergency Management Agency

44 CFR Part 67

[Docket No. FEMA-B-7736 & D-7820]

Proposed Flood Elevation Determinations

AGENCY: Federal Emergency Management Agency, DHS.

ACTION: Proposed rule; correction.

SUMMARY: On September 26, 2007, FEMA published in the Federal Register a proposed rule that contained an erroneous table. This notice provides corrections to that table, to be used in lieu of the information published at 72 FR 54624. The table provided here represents the flooding source, location of referenced elevation, effective and modified elevation, and communities affected for the Town of Franklin and the Unincorporated Areas of Macon County, North Carolina. Specifically, it addresses flooding sources “Cartoogechaye Creek,” “Jones Creek,” “Poplar Cove Creek,” “Rabbit Creek,” and “Rocky Branch.”

DATES: Comments are to be submitted on or before June 2, 2008.

ADDRESSES: You may submit comments, identified by Docket No. FEMA-B-7736 &D-7820, to William R. Blanton, Jr., Chief, Engineering Management Branch, Mitigation Directorate, Federal Emergency Management Agency, 500 C Street, SW., Washington, DC 20472 (202) 646-3151, or (e-mail) bill.blanton@dhs.gov.

FOR FURTHER INFORMATION CONTACT: William R. Blanton, Jr., Chief, Engineering Management Branch, Mitigation Directorate, Federal Emergency Management Agency, 500 C Street, SW., Washington, DC 20472 (202) 646-3151 or.(e-mail) bill.blanton@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Correction

In the proposed rule published at 72 FR 54624, in the September 26, 2007 issue of the Federal Register, FEMA published a table under the authority of 44 CFR 67.4. The table, entitled “Macon County, North Carolina, and Incorporated Areas,” addressed flooding sources “Cartoogechaye Creek,” “Jones Creek,” “Poplar Cove Creek,” “Rabbit Creek,” and “Rocky Branch.” That table contained inaccurate information as to the location of referenced elevation, effective and modified elevation in feet, or communities affected for these flooding sources.

In this notice of correction, FEMA is publishing a new table to address these errors. The table below should be used in lieu of that previously published.

Flooding source(s) | Location of referenced elevation** | +Elevation in feet (NAVD): Effective | +Elevation in feet (NAVD): Modified | Communities affected
Macon County, North Carolina and Incorporated Areas
Cartoogechaye Creek | The confluence with Little Tennessee River | None | +2,024 | Macon County (Unincorporated Areas), Town of Franklin.
| At the confluence of Jones Creek and Poplar Cove Creek | None | +2,178
Jones Creek | At the confluence with Poplar Cove Creek and Cartoogechaye Creek | None | +2,178 | Macon County (Unincorporated Areas).
| At the confluence of Allison Creek | None | +2,232
Poplar Cove Creek | At the confluence with Cartoogechaye Creek and Jones Creek | None | +2,178 | Macon County (Unincorporated Areas).
| Approximately 380 feet upstream of Smith Hill Road (State Road 1306) | None | +2,264
Rabbit Creek | The confluence with Little Tennessee River | None | +2,000 | Macon County (Unincorporated Areas), Town of Franklin.
| At the confluence of Corbin Creek and Berry Creek | None | +2,220
Rocky Branch | The confluence with Little Tennessee River | None | +1,977 | Macon County (Unincorporated Areas).
| Approximately 0.7 mile upstream of Nettie Riverbend Road (State Road 1337) | None | +1,996
Franklin (Town)
Maps available for inspection at the Franklin Town Hall, 188 West Main Street, Franklin, North Carolina.
Send comments to The Honorable Joe Collins, Mayor of the Town of Franklin, 188 West Main Street, Franklin, North Carolina 28734.
Macon County (Unincorporated Areas)
Maps available for inspection at the Macon County Planning Department, Human Services Building, 5 West Main Street, Franklin, North Carolina.
Send comments to Mr. Jack Horton, Macon County Manager, Courthouse Annex, 5 West Main Street, Franklin, North Carolina 28734.

Dated: April 18, 2008.
David I. Maurstad,
Federal Insurance Administrator of the National Flood Insurance Program, Department of Homeland Security, Federal Emergency Management Agency.

[FR Doc. E8-9271 Filed 4-30-08; 8:45 am]

BILLING CODE 9110-12-P